Proclamation 8869 of September 21, 2012

National Historically Black Colleges and Universities Week, 2012

By the President of the United States of America

A Proclamation

The founders of our Nation's first colleges and universities for African Americans shared a fundamental belief that, with the right education, all people can overcome barriers of injustice to achieve their fullest potential. These pioneers understood that education means emancipation—a path to freedom, independence, and success. More than 150 years later, America's Historically Black Colleges and Universities (HBCUs) carry forward this proud legacy, and this week, we celebrate the profound impact these places of learning have made on the life of our country.

For generations, HBCUs have provided students with access to higher education and instilled in them a sense of pride and history. Graduates of these institutions have played an extraordinary role in shaping the progress of our Union by championing equality and changing perspectives through the arts. They have strengthened our Nation by building our economy, teaching our children, healing the sick, and defending America as members of our Armed Forces. Today, HBCUs continue to help move our country forward, cultivating leaders in every area of our society. And with each new HBCU alum, we move closer to achieving our goal of having the highest proportion of college graduates in the world by 2020.

During National Historically Black Colleges and Universities Week, as we recognize the immeasurable contributions of these institutions, let us recommit to ensuring they remain cradles of opportunity for the next generation. Let us also reaffirm our belief in the power of progress through education—a belief we share with the visionary leaders who established our HBCUs so many years ago.

NOW, THEREFORE, I, BARACK OBAMA, President of the United States of America, by virtue of the authority vested in me by the Constitution and the laws of the United States, do hereby proclaim September 23 through September 29, 2012, as National Historically Black Colleges and Universities Week. I call upon educators, public officials, professional organizations, corporations, and all Americans to observe this week with appropriate programs, ceremonies, and activities that acknowledge the countless contributions these institutions and their alumni have made to our country.

IN WITNESS WHEREOF, I have hereunto set my hand this twenty-first day of September, in the year of our Lord two thousand twelve, and of the Independence of the United States of America the two hundred and thirty-seventh.

[FR Doc. 2012-23868

Filed 9-26-12; 8:45 am]

Billing code 3295-F2-P